Title 3—

The President

Proclamation 9914 of August 4, 2019

Honoring the Victims of the Tragedies in El Paso, Texas, and Dayton, Ohio

By the President of the United States of America

A Proclamation

Our Nation mourns with those whose loved ones were murdered in the tragic shootings in El Paso, Texas, and Dayton, Ohio, and we share in the pain and suffering of all those who were injured in these two senseless attacks. We condemn these hateful and cowardly acts. Through our grief, America stands united with the people of El Paso and Dayton. May God be with the victims of these two horrific crimes and bring aid and comfort to their families and friends. As a mark of solemn respect for the victims of the terrible acts of violence perpetrated on August 3, 2019, in El Paso, Texas, and on August 4, 2019, in Dayton, Ohio, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, August 8, 2019. I also direct that the flag shall be flown at half-staff for the same length of time at all United States embassies, legations, consular offices, and other facilities abroad, including all military facilities and naval vessels and stations.

IN WITNESS WHEREOF, I have hereunto set my hand this fourth day of August, in the year of our Lord two thousand nineteen, and of the Independence of the United States of America two hundred forty-fourth.

[FR Doc. 2019-17118

Filed 8-7-19; 8:45 am]

Billing code 3295-F9-P